DEPARTMENT OF HOMELAND SECURITY

Coast Guard

33 CFR Part 165

[Docket No. USCG-2024-1069]

Safety Zone; Sacramento New Years's Eve Fireworks; Sacramento River, Sacramento, CA

AGENCY: Coast Guard, Department of Homeland Security (DHS).

ACTION: Notification of enforcement of regulation.

SUMMARY: The Coast Guard will enforce the safety zone in the navigable waters of the Sacramento River near the Tower Bridge for the Sacramento New Year's Eve Fireworks Display. The safety zone will be enforced on December 31, 2024. This action is necessary to protect personnel, vessels and the marine environment from the dangers associated with pyrotechnics. During the enforcement period, unauthorized persons or vessels are prohibited from entering, transiting through, or remaining in the safety zone, unless authorized by the Patrol Commander, other Federal, State, or local law enforcement agencies.

DATES: The regulation in 33 CFR 165.1191 will be enforced for the location described in table 1 to § 165.1191, item number 25, from 8:45 p.m. until 9:20 p.m. on December 31, 2024.

FOR FURTHER INFORMATION CONTACT: If you have questions about this notification of enforcement, call or email Lieutenant William Harris, U.S. Coast Guard Sector San Francisco, Waterways Management Division; telephone (415) 399-7443, or email SFWaterways@uscg.mil.

SUPPLEMENTARY INFORMATION: The Coast Guard will enforce the safety zone regulations in 33 CFR 165.1191 for the event and location listed in table 1 to § 165.1191, item number 25, for the Sacramento New Year's Eve Fireworks Display from 8:45 p.m. until 9:20 p.m. on December 31, 2024. The Coast Guard will enforce a 700-foot safety zone around the shore-based launch location near the Tower Bridge at approximate position 38°34′58.1″ N, 121°30′24.8″ W (NAD 83) beginning 15-minutes prior to the 5-minute fireworks display. The safety zone will be enforced until 9:20 p.m. on December 31, 2024, 15-minutes following the conclusion of the fireworks display.

In addition to this notification in the Federal Register, the Coast Guard plans to provide notification of the safety zone and its enforcement period via the Local Notice to Mariners.

Under the provision of 33 CFR 165.1191, unauthorized persons or vessels are prohibited from entering into, transiting through, or anchoring within the safety zone during all applicable effective dates and times, unless authorized to do so by the Patrol Commander or other Official Patrol, defined as a Federal, State, or local law enforcement agency on scene to assist the Coast Guard in enforcing the regulated area. Additionally, each person who received notice of a lawful order or direction issued by the Patrol Commander or Official Patrol shall obey the order or direction. The Patrol Commander or Official Patrol may, upon request, allow the transit or commercial vessels through the regulated area when it is safe to do so.

If the Captain of the Port determines that the regulated area need not be enforced for the full duration stated in this notification, a Broadcast Notice to Mariners may be used to grant general permission to enter the regulated area.

Dated: December 19, 2024.
Jordan M. Baldueza,
Captain, U.S. Coast Guard, Captain of the Port San Francisco.

[FR Doc. 2024-31391 Filed 12-30-24; 8:45 am]

BILLING CODE 9110-04-P